NUCLEAR REGULATORY COMMISSION

[NRC-2020-0144]

Information Collection: NRC Online Form for Requesting Alternatives to Regulatory Codes and Standards

AGENCY: Nuclear Regulatory Commission.

ACTION: Notice of submission to the Office of Management and Budget; request for comment.

SUMMARY: The U.S. Nuclear Regulatory Commission (NRC) invites public comment on our request for review and Office of Management and Budget (OMB) approval of the information collection that is summarized below. The information collection is regarding a NRC Online Form for requesting alternatives to regulatory Codes and Standards requirements.

DATES: Submit comments by December 24, 2020. Comments received after this date will be considered if it is practical to do so, but the Commission is able to ensure consideration only for comments received on or before this date.

ADDRESSES: Written comments and recommendations for the proposed information collection should be sent within 30 days of publication of this notice to https://www.reginfo.gov/public/do/PRAMain. Find this particular information collection by selecting “Currently under Review—Open for Public Comments” or by using the search function.

FOR FURTHER INFORMATION CONTACT: David Cullison, NRC Clearance Officer, U.S. Nuclear Regulatory Commission, Washington, DC 20555-0001; telephone: 301-415-2084; email: INFOCOLLECTS.Resource@nrc.gov.

SUPPLEMENTARY INFORMATION:

I. Obtaining Information and Submitting Comments

A. Obtaining Information

Please refer to Docket ID NRC-2020-0144 when contacting the NRC about the availability of information for this action. You may obtain publicly available information related to this action by any of the following methods:

• Federal rulemaking website: Go to https://www.regulations.gov and search for Docket ID NRC-2020-0144. A copy of the collection of information and related instructions may be obtained without charge by accessing Docket ID NRC-2020-0144 on this website.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. A copy of the collection of information and related instructions may be obtained without charge by accessing ADAMS Accession No. ML20302A440. The supporting statement is available in ADAMS under Accession No. ML20225A233.

• Attention: The PDR, where you may examine and order copies of public documents is currently closed. You may submit your request to the PDR via email at PDR.Resource@nrc.gov or call 1-800-397-4209 between 8:00 a.m. and 4:00 p.m. (EST), Monday through Friday, except Federal holidays.

• NRC's Clearance Officer: A copy of the collection of information and related instructions may be obtained without charge by contacting the NRC's Clearance Officer, David Cullison, Office of the Chief Information Officer, U.S. Nuclear Regulatory Commission, Washington, DC 20555-0001; telephone: 301-415-2084; email: INFOCOLLECTS.Resource@NRC.GOV.

B. Submitting Comments

The NRC cautions you not to include identifying or contact information in comment submissions that you do not want to be publicly disclosed in your comment submission. All comment submissions are posted at https://www.regulations.gov and entered into ADAMS. Comment submissions are not routinely edited to remove identifying or contact information.

If you are requesting or aggregating comments from other persons for submission to the OMB, then you should inform those persons not to include identifying or contact information that they do not want to be publicly disclosed in their comment submission. Your request should state that comment submissions are not routinely edited to remove such information before making the comment submissions available to the public or entering the comment into ADAMS.

II. Background

Under the provisions of the Paperwork Reduction Act of 1995 (44 U.S.C. Chapter 35), the NRC recently submitted a proposed collection of information to OMB for review entitled, NRC Online Form, “Request for Alternative Under 10 CFR 50.55a(z)(1) and 10 CFR 50.55a(z)(2).” The NRC hereby informs potential respondents that an agency may not conduct or sponsor, and that a person is not required to respond to, a collection of information unless it displays a currently valid OMB control number.

The NRC published a Federal Register notice with a 60-day comment period on this information collection on July 23, 2020 (85 FR 44549).

1. The title of the information collection: NRC Online Form, “Request for Alternative Under 10 CFR 50.55a(z)(1) and 10 CFR 50.55a(z)(2).”

2. OMB approval number: 3150-0244.

3. Type of submission: Revision.

4. The form number if applicable: There is no form number for the online submission form.

5. How often the collection is required or requested: On occasion.

6. Who will be required or asked to respond: All holders of, and certain applicants for, nuclear power plant construction permits and operating licenses under the provisions of part 50 of title 10 of the Code of Federal Regulations (10 CFR), “Domestic Licensing of Production and Utilization Facilities” who use alternatives to the requirements of 10 CFR 50.55a paragraphs (b) through (h) when authorized by the NRC have the option of using the online form.

7. The estimated number of annual responses: 218.

8. The estimated number of annual respondents: 218.

9. An estimate of the total number of hours needed annually to comply with the information collection requirement or request: 872.

10. Abstract: The NRC requested emergency review of an online form to allow licensees to submit requests for alternatives under 10 CFR 50.55a(z)(1) and (2) for a period of 6 months. The collection was initiated to facilitate the submission of alternatives related to the COVID-19 public health emergency. The collection is currently being revised and resubmitted to OMB for renewal. The revisions to the form will allow respondents to use the NRC Online Form, “Request for Alternative Under 10 CFR 50.55a(z)(1) and (2),” for all alternative requests (COVID and Non-COVID alike) and provides a more sophisticated form layout that provides new features that allow licensees to build requests within the portal (vice attaching files) and allows for peer reviews. The form which simplifies and reduces the burden of filing of requests for alternatives is described in the following paragraphs. Under the existing collection under OMB Control No. 3150-0011, licensees are already able to request alternatives. This information collection only addresses the incremental burden change to this existing clearance due to the form and not the total burden for the clearance.

Section 50.55a of 10 CFR incorporates by reference Division 1 rules of Section III, “Rules for Construction of Nuclear Power Plant Components,” and Section XI, “Rules for Inservice Inspection of Nuclear Power Plant Components,” of the American Society of Mechanical Engineers (ASME) Boiler and Pressure Vessel Code (B&PV Code); and the rules of the ASME “Code for Operation and Maintenance of Nuclear Power Plants” (OM Code). These rules of the ASME B&PV and OM Codes set forth the requirements to which nuclear power plant components are designed, constructed, tested, repaired, and inspected. Section 50.55a(z) of 10 CFR allows applicants to use alternatives to the requirements of 10 CFR 50.55a paragraphs (b) through (h) when authorized by the NRC. To facilitate licensees' requests for alternatives to the requirements in the above regulations, the NRC is providing an optional online form to submit the required information for a specific alternative request under 10 CFR 50.55a(z).

Dated: November 18, 2020.
For the Nuclear Regulatory Commission.
David C. Cullison,
NRC Clearance Officer, Office of the Chief Information Officer.

[FR Doc. 2020-25905 Filed 11-23-20; 8:45 am]

BILLING CODE 7590-01-P